DEPARTMENT OF THE INTERIOR

Bureau of Land Management

[LLES956000 L14200000.BJ0000 14X]

Eastern States: Filing of Plats of Survey

AGENCY: Bureau of Land Management, Interior.

ACTION: Notice.

SUMMARY: The Bureau of Land Management (BLM) will file the plats of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The surveys were requested by the Bureau of Indian Affairs.

The lands surveyed are:

Fourth Principal Meridian, Minnesota

T. 49 N., R. 17 W.

The plat of survey represents the dependent and corrective dependent resurvey of a portion of the subdivisional lines, the dependent resurvey of a portion of the east boundary of the Fond Du Lac Indian reservation, the survey of the subdivision of sections 10 and 15, and an informational traverse of the present day meanders of the right bank of the St. Louis River of Township 49 North, Range 17 West, in the State of Minnesota, and was accepted June 18, 2014.

Fifth Principal Meridian, Minnesota

T. 135 N., R. 41 W.

The plat of survey represents the dependent resurvey of a portion of the subdivisional lines and the survey of the subdivision of Section 15 of Township 135 North, Range 41 West, of the Fifth Principal Meridian, in the State of Minnesota, and was accepted June 24, 2014.

Choctaw Meridian, Mississippi

T. 7 N., R. 10 E.

The plat of survey represents the dependent resurvey of a portion of the subdivisional lines, the survey of the subdivision of sections 10 and 15, and the survey of lands held in trust for the Mississippi Band of Choctaw Indians; Township 7 North, Range 10 East, of the Choctaw Meridian, in the State of Mississippi, and was accepted June 24, 2014.

Fourth Principal Meridian, Wisconsin

T. 34 N., R. 15 E.

The plat of survey represents the dependent resurvey of a portion of the subdivisional lines and the survey of the subdivision of section 28 of Township 34 North, Range 15 East, Fourth Principal Meridian, in the State of Wisconsin, and was accepted June 24, 2014.

We will place a copy of the plats we described in the open files. They will be available to the public as a matter of information.

If BLM receives a protest against the surveys, as shown on the plat, prior to the date of the official filing, we will stay the filing pending our consideration of the protest.

We will not officially file the plats until the day after we have accepted or dismissed all protests and they have become final, including decisions on appeals.

Dated: July 30, 2014.
John Sroufe,
Chief Cadastral Surveyor, Acting.

[FR Doc. 2014-18455 Filed 8-4-14; 8:45 am]

BILLING CODE 4310-GJ-P